DEPARTMENT OF DEFENSE

Department of the Navy

Notice of Availability of Government-Owned Inventions; Available for Licensing

AGENCY: Department of the Navy, DoD.

ACTION: Notice.

SUMMARY: The Department of the Navy hereby gives notice of the availability of exclusive or partially exclusive licenses to practice worldwide under the following pending patents. Any license granted shall comply with 35 U.S.C. 209 and 37 CFR part 404. Applications will be evaluated utilizing the following criteria: (1) Ability to manufacture and market the technology; (2) manufacturing and marketing ability; (3) time required to bring technology to market and production rate; (4) royalties; (5) technical capabilities; and (6) small business status.

Patent application Serial Number 11/700,970 “INTERIM DENTAL DRESSING AND RESTORATIVE MATERIAL” filed 1/24/2007; 11/726,203 “METHOD FOR THE DETECTION OF TARGET MOLECULES BY FLUORESCENCE POLARIZATION USING PEPTIDE MIMICS” filed on 3/13/2007; 11/789,122 “RECOMBINANT ANTIGENS FOR DIAGNOSIS AND PREVENTION OF MURINE TYPHUS” filed on 4/19/2007; 11/800,955 “SECRETED CAMPYLOBACTER FLAGELLA COREGULATED PROTEINS AS IMMUNOGENS” filed on 5/8/2007; 11/800,948 “MULTIFUNCTIONAL BLOOD SUBSTITUTE (MBS)” filed on 5/8/2007; 11/881,498 “RECOMBINANT ANTIGENS FOR DIAGNOSIS AND PREVENTION OF MURINE TYPHUS (Murine typhus Ompb derived An and K fragments (similar to r56))” filed on 7/27/2007; 11/839,922 “VASCULAR SHUNT CREATED FROM PTFE (POLYTETRAFLUOROETHYLENE) OR OTHER NOVEL NON-COAGULATIVE MATERIALS” filed on 8/16/2007; 11/842,438 “METHODS FOR PROTECTING AGAINST LETHAL INFECTION WITH BACILLUS ANTHRACIS” filed on 8/21/2007; 11/876,997 “ORIENTIA TSUTSUGAMUSHI TRUNCATED RECOMBINANT OUTER MEMBRANE PROTEIN (r47 AND r57) VACCINES DIAGNOSTICS AND THERAPEUTICS FOR SCRUB TYPHUS AND HIV INFECTIONS” filed on 10/23/2007; 11/982,488 “DENGUE DNA OR PIV-LAV PRIME-BOOST VACCINATION AGAINST DENGUE VIRUS INFECTION” filed on 11/2 /2007; 11/942,402 “METHODS FOR PROTECTION AGAINST LETHAL INFECTION WITH BACILLUS ANTHRACIS” filed on 11/19/2007; 11/942,343 “METHODS FOR PROTECTION AGAINST LETHAL INFECTION WITH BACILLUS ANTHRACIS” filed on 11/19/2007; 12/001,598 “IDENTIFICATION OF ANTIGENS FOR DIAGNOSIS AND PREVENTION OF Q FEVER (RECOMBINANT ANTIGENS FOR THE DETECTION OF COXIELLA BURNETII)” filed on 12/11/2007; 12/001,599 “IDENTIFICATION OF ANTIGENS FOR DIAGNOSIS AND PREVENTION OF Q FEVER (RECOMBINANT ANTIGENS FOR THE DETECTION OF COXIELLA BURNETII)” filed on 12/11/2007; 11/964,982 “EXPRESSION AND REFOLDING OF TRUNCATED RECOMBINANT MAJOR OUTER MEMBRANE PROTEIN ANTIGEN (R56) OF ORIENTIA TSUTSUGAMUSHI AND ITS USE IN ANTIBODY BASED DETECTION ASSAYS AND VACCINES” Filed on 12/27/2007; 11/965,004 “EXPRESSION AND REFOLDING OF TRUNCATED RECOMBINANT MAJOR OUTER MEMBRANE PROTEIN ANTIGEN (R56) OF ORIENTIA TSUTSUGAMUSHI AND ITS USE IN ANTIBODY BASED DETECTION ASSAYS AND VACCINES” filed on 12/28/2007; 11/971,433 “ADENOVIRAL VECTOR-BASED MALARIA VACCINE” filed on 1/9/2008; 11/988,598 “ADHESIN-ENTEROTOXOID CHIMERA VACCINE FOR ENTEROTOXIGENIC ESCHERICHIA COLI” filed on 1/10/2008; 12/103,112 “RECYCLING CONTAINER (TO MINIMIZE RELEASE OF Hg VAPOR) FOR THE COLLETION AND TEMPORARY STORAGE OF MERCURY CONTAMINATED WASTES IN THE DENTAL OPERATORY” filed on 4/15/2008; 12/163,412 “FLOURESCENCE POLARIZATION INSTRUMENTS AND METHODS FOR DETECTION OF EXPOSURE TO BIOLOGICAL MATERIALS BY FLUORESCENCE POLARIZATION IMMUNOASSAY OF SALIVA OR ORAL FLUID” filed on 6/27/2008; 12/221,150 “CAPSULE COMPOSITION FOR USE AS IMMUNOGEN AGAINST CAMPYLOBACTER JEJUNI” filed on 7/25/2008; 61/025,045 “MULTIFUNCTIONAL ACRYLATES USED AS CROSS-LINKERS IN DENTAL AND BIOMEDICAL SELF-ETCH BONDING ADHESIVES” filed on 1/31/2008; 61/036,666 “VACCINE AND IMMUNIZATION METHOD AGAINST MALARIA CONTAINING PLASMODIUM ANTIGEN 2” filed on 3/14/2008; 61/054,022 “RECOMBINANT CHIMERIC ANTIGENS FOR DIAGNOSIS AND PREVENTION OF SCRUB TYPHUS” filed on 5/16/2008; 61/057,855 “NANOPARTICLE ENCAPSULATED ANTIBIOTICS FOR CRANIAL IMPLANTATION PATIENTS” filed on 6/1/2008; 61/059,382 “RECOMBINANT ANTIGENS FOR DIAGNOSIS AND PREVENTION OF SPOTTED FEVER RICKETTSIAE” filed on 6/6/2008; 61/079,535 “COMPOSITION AND METHOD FOR THE INDUCTION OF IMMUNITY AGAINST BACILLUS CEREUS GROUP BACTERIA” filed on 7/10/2008.

DATES: Applications for a non-exclusive, exclusive or partially exclusive license may be submitted at any time from the date of this notice.

ADDRESSES: Submit application to the Office of Technology Transfer, Naval Medical Research Center, 503 Robert Grant Ave., Silver Spring, MD 20910-7500.

FOR FURTHER INFORMATION CONTACT: Dr. Charles Schlagel, Director, Office of Technology Transfer, Naval Medical Research Center, 503 Robert Grant Ave., Silver Spring, MD 20910-7500, telephone 301-319-7428 or E-Mail: Charles.schlagel@med.navy.mil.

Dated: October 16, 2008.
T.M. Cruz,
Lieutenant Commander, Judge Advocate Generals Corps, U.S. Navy, Federal Register Liaison Officer.

[FR Doc. E8-25277 Filed 10-22-08; 8:45 am]

BILLING CODE 3810-FF-P